NUCLEAR REGULATORY COMMISSION

[Docket Nos. 50-387 and 50-388]

PPL Susquehanna, LLC.; Notice of Receipt and Availability of Application for Renewal of Susquehanna Steam Electric Station, Units 1 and 2 Facility Operating License Nos. NPF-14 and NPF-22 for an Additional 20-Year Period

The U.S. Nuclear Regulatory Commission (NRC or Commission) has received an application, dated September 13, 2006, from PPL Susquehanna, LLC., filed pursuant to Section 103 of the Atomic Energy Act of 1954, as amended, and Title 10 of the Code of Federal Regulations Part 54 (10 CFR part 54), to renew the operating license (NPF-14 and NPF-22) for the Susquehanna Steam Electric Station, Units 1 and 2. Renewal of the license would authorize the applicant to operate the facility for an additional 20-year period beyond the period specified in the current operating license. The current operating license for the Susquehanna Steam Electric Station, Units 1 and 2 (NPF-14 and NPF-22) expires on July 17, 2022 and March 23, 2024 respectively. The Susquehanna Steam Electric Station, Units 1 and 2 are boiling water reactors designed by General Electric. The units are located in Berwick, PA. The acceptability of the tendered application for docketing, and other matters including an opportunity to request a hearing, will be the subject of subsequent Federal Register notices.

Copies of the application are available for public inspection at the Commission's Public Document Room (PDR), located at One White Flint North, 11555 Rockville Pike (first floor), Rockville, Maryland 20582, or electronically from the NRC's Agencywide Documents Access and Management System (ADAMS) Public Electronic Reading Room under Accession Number ML062630217. The ADAMS Public Electronic Reading Room is accessible from the NRC's Web site at http://www.nrc.gov/reading-rm/adams.html. In addition, the application is available at http://www.nrc.gov/reactors/operating/licensing/renewal/applications.html, on the NRC's Web page, while the application is under review. Persons who do not have access to ADAMS or who encounter problems in accessing the documents located in ADAMS should contact the NRC's PDR Reference staff at 1-800-397-4209, extension 301-415-4737, or by e-mail to pdr@nrc.gov.

A copy of the license renewal application for the Susquehanna Steam Electric Station, Units 1 and 2 is also available to local residents near the Susquehanna Steam Electric Station at the Berwick Public Library, 205 Chestnut Street Berwick, PA 18603.

Dated at Rockville, Maryland, this 26th day of September, 2006.
For the Nuclear Regulatory Commission.
Frank P. Gillespie,
Director, Division of License Renewal, Office of Nuclear Reactor Regulation.

[FR Doc. E6-16138 Filed 9-29-06; 8:45 am]

BILLING CODE 7590-01-P